DEPARTMENT OF HEALTH AND HUMAN SERVICES

Office of Community Services

[Program Announcement No. 2002-15]

Research and Studies Related to Social Services Provided by Faith-Based and Community-Based Organizations

AGENCY: The Office of Community Services (OCS), Administration for Children and Families, Department of Health and Human Services.

ACTION: Announcement of the request for applications and the availability of funds for research and studies related to social services provided by faith-based and community-based organizations.

SUMMARY: The Administration for Children and Families (ACF) announces that competing applications are being accepted for grant funding to stimulate research and support a range of studies and analyses to examine the role and promising and “best practices” of faith- and community-based organizations providing services in targeted study areas. The priority study areas are: Homelessness, hunger, at-risk children and youth, transition from welfare to work, or intensive rehabilitation services for those most in need such as addicts and prisoners.

DATES: The closing date for submitting applications under this announcement is July 22, 2002. Mailed applications received after the closing date will be classified as late. See Part IV of this announcement for more information on submitting applications.

In order to determine the number of expert reviewers that will be necessary, if you plan to submit an application, you are requested to mail or fax written notification of your intentions at least 30 calendar days prior to the submission deadline date. Send the notification with the name, address, telephone and fax numbers, and e-mail address of the project director and the name of the applicant organization to: OCS Operations Center, 1815 North Fort Myer Drive, Suite 300, Arlington, Virginia 22202 or fax to (703) 248-8765 or email to OCS@lcgnet.com. Label all submissions as follows: Intent to Apply for Research Under the Compassion Capital Fund.

ADDRESSES: Mailed applications should be sent to: OCS Operations Center, 1815 North Fort Myer Drive, Suite 300, Arlington, Virginia 22202, and labeled as follows: “Application for Research Under the Compassion Capital Fund.”

Hand delivered, courier or overnight delivery applications are accepted during the normal working hours of 8 a.m. to 4:30 p.m., Monday through Friday (excluding Federal holidays), on or prior to the established closing date. All packages should be clearly labeled as follows: Application for Research Under the Compassion Capital Fund. The address for these applications is: OCS Operations Center, 1815 North Fort Myer Drive, Suite 300, Arlington, Virginia 22202, telephone: 1-800-281-9519.

The printed Federal Register notice is the only official program announcement. Any corrections to this announcement will be published in the Federal Register as well as published on the ACF World Wide Web Pages. The Web Site is: http://www.acf.dhhs.gov/programs/opre/frpa.htm.

Although reasonable efforts are taken to assure that the files on the ACF World Wide Web Pages containing electronic copies of this Program Announcement are accurate and complete, they are provided for information only. The applicant bears sole responsibility to assure that the copy downloaded and/or printed from any other source is accurate and complete.

FOR FURTHER INFORMATION CONTACT : LCG OCS Operations Center, 1-800-281-9519; email: OCS@lcgnet.com.

Required application forms are available at: http://www.acf.dhhs.gov/programs/ofs/forms.htm.

SUPPLEMENTARY INFORMATION: This program announcement consists of four parts. Part I: Background and Program Purpose—background, legislative authority, project purpose, funding availability and instruments, project and budget periods. Part II: Project and Applicant Eligibility—eligible applicants. Part III: The Review Process—intergovernmental review, initial ACF screening, general instructions for the Uniform Project Description, competitive review and evaluation criteria, and the review process. Part IV: The Application Process—required forms, application limits, checklist for a complete application, closing date for receipt of applications, and Paperwork Reduction Act.

Part I. Background and Program Purpose

A. Background

Faith- and community-based organizations play a major role in aiding and supporting individuals, families, and communities in need. Often, these organizations have a long history of service in their communities, are well known and trusted by local residents, and have a stake in the communities they serve. In recognition of the unique contribution that these organizations can make in meeting an array of special needs within their communities, there have been important new steps taken to assist faith- and community-based organizations to further develop their capacity and capabilities for delivering services and assistance to individuals, families and communities in need. In federal fiscal year 2002, in an effort to broaden Federal efforts to work with faith-based and community-based organizations, the Congress appropriated funds for the Compassion Capital Fund to provide technical assistance to faith-based and community-based organizations to address an array of issues to help them build their capacity and expand and replicate model programs. The funds are also to be used to support research on the “best practices” of faith- and community-based organizations. This announcement is one part of the strategy within the Compassion Capital Fund and it will support research regarding the roles and promising approaches, “best practices,” and model programs operated by faith- and community-based organizations in five target areas: homelessness, hunger, at-risk children, transition from welfare to work, and intensive rehabilitation services for those most in need such as addicts and prisoners.

B. Legislative Authority

This announcement is authorized by Section 1110 of the Social Security Act (42 U.S.C. 1310). (Catalog of Federal Domestic Assistance 93.647) and the Departments of Labor, Health and Human Services, and Education, and Related Agencies Appropriations Act, 2002, Public Law 107-116, Title II (2002).

C. Project Purpose

The primary purpose of this announcement is to build knowledge regarding the roles and promising approaches by diverse types of faith- and community-based organizations to provide services within five priority areas: homelessness, hunger, at-risk children, the transition from welfare to work, and intensive services for those most in need such as addicts and prisoners. Approved studies must utilize sound analytical methods to address important research questions related to the priority study areas. Applications for research related to study areas not included in this announcement may be considered by ACF but will not be given priority. Given the important contribution that new research can make in the study areas and the need for information, ACF is supporting short-term research and data analysis projects that are designed to be completed within 12-17 months.

D. Funding Availability and Instruments

ACF will issue the Financial Assistance Awards under this announcement as grants. Approximately $1 million is expected to be available from ACF in funds appropriated for fiscal year 2002. We estimate that this level of funding will support between 5 and 8 awards with total budgets (including indirect costs) ranging from $125,000 to about $250,000 for short-term projects. These figures are provided as guidance and do not constitute minimum or maximum limits.

No Federal funds received as a result of this announcement can be used to purchase computer equipment and no funds may be paid as profit to grantees or sub-grantees (i.e., any amount in excess of allowable direct and indirect costs of the recipient (45 CFR 74.81)). Further, funds may not be used to support the provision of services. The funding is intended to sponsor research and analytic work.

Grantees should provide at least five percent of the total approved cost of the project. The total approved cost of the project is the sum of the Federal share and the non-Federal share. The non-Federal share may be met by cash or in-kind contributions, although applicants are encouraged to meet the cost share through cash contributions. As an example of cost sharing, a project requesting $200,000 in Federal funds would include a cost share of at least $10,526 (because $200,000 is 95% of $210,526).

E. Project and Budget Periods

This announcement is inviting applications for short-term projects with project and budget periods up to 17 months.

Part II. Project and Applicant Eligibility

Eligible Applicants

Pursuant to section 1110 of the Social Security Act, any public organization, including state and local governments, and private nonprofit organizations, including universities and other institutions of higher education, as well as faith-based organizations, may apply. Applications may also be submitted by private for-profit organizations. However, no grant funds may be paid as profit, i.e., any amount in excess of allowable direct and indirect costs of the recipient (45 CFR 74.81).

Part III. The Review Process

A. Intergovernmental Review

This program is covered under Executive Order 12372, “Intergovernmental Review of Federal Programs,” and 45 CFR Part 100, “Intergovernmental Review of Department of Health and Human Services Programs and Activities.” Under the Order, states may design their own processes for reviewing and commenting on proposed Federal assistance under covered programs.

As of April 8, 2002, the following jurisdictions have elected not to participate in the Executive Order process. Applicants from these jurisdictions or for projects administered by federally recognized Indian Tribes need take no action in regard to Executive Order 12372:

Alabama; Alaska; Arizona; Colorado; Connecticut; Kansas; Hawaii; Idaho; Indiana; Louisiana; Massachusetts; Minnesota; Montana; Nebraska; New Jersey; New York; Ohio; Oklahoma; Oregon; Palau; Pennsylvania; South Dakota; Tennessee; Vermont; Virginia; Wyoming; and Washington.

Although the jurisdictions listed above no longer participate in the process, grant applicants are still eligible to apply for a grant even if a state, territory, commonwealth, etc. does not have a Single Point of Contact (SPOC). All remaining jurisdictions participate in the Executive Order process and have established SPOCs. Applicants from participating jurisdictions should contact their SPOCs as soon as possible to alert them of the prospective applications and receive instructions. Applicants must submit any required material to the SPOCs as soon as possible so that the program office can obtain and review SPOC comments as part of the award process. The applicant must submit all required materials, if any, to the SPOC and indicate the date of this submittal (or the date of contact if no submittal is required) on the Standard Form 424, item 16a. Under 45 CFR 100.8(a)(2), a SPOC has 60 days from the application deadline to comment on proposed new or competing continuation awards.

SPOCs are encouraged to eliminate the submission of routine endorsements as official recommendations. Additionally, SPOCs are requested to clearly differentiate between mere advisory comments and those official state process recommendations that may trigger the “accommodate or explain” rule.

When comments are submitted directly to ACF, they should be addressed to: Department of Health and Human Services, Administration for Children and Families Office of Grants Management, Division of Discretionary Grants, 370 L'Enfant Promenade, SW., 4th floor West, Washington, D.C. 20447.

A list of the Single Points of Contact for each participating State and Territory is included with the application materials for this program announcement. The list can also be found on the following web site:­ http://www.whitehouse.gov/omb/grants/spoc.html.

B. Initial ACF Screening:

Each application submitted under this program announcement will undergo a pre-review to determine that (1) the application was received by the closing date and submitted in accordance with the instructions in this announcement and (2) the applicant is eligible for funding.

C. General Instructions for the Uniform Project Description:

The following ACF Uniform Project Description has been approved under OMB Control Number 0970-0139, which expires 12/31/2003. This format is to be used to submit an application under this announcement. An agency may not conduct or sponsor, and a person is not required to respond to, a collection of information unless it displays a currently valid OMB control number. Consistent with the Uniform Project Description format, the specific criteria applicable to this program follows in section D.

1. Objectives and Need for Assistance: Clearly identify the physical, economic, social, financial, institutional, and/or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

2. Results or Benefits Expected: Identify the results and benefits to be derived. For example, when applying for a grant to analyze the role of government funding in the services offered by faith- and community-based organizations, describe the ways in which this information will be useful to various interested parties (e.g., government officials, faith-based providers of services).

3. Approach: Outline a plan of action which describes the scope and detail of how the proposed work will be accomplished. Account for all functions or activities identified in the application. Cite factors which might accelerate or decelerate the work and state your reason for taking the proposed approach rather than others. Describe any unusual features of the project such as design or technological innovations, reductions in cost or time, or extraordinary social and community involvement.

Provide quantitative monthly or quarterly projections of the accomplishments to be achieved for each function or activity. When accomplishments cannot be quantified by activity or function, list them in chronological order to show the schedule of accomplishments and their target dates.

If any data is to be collected, maintained, and/or disseminated, clearance may be required from the U.S. Office of Management and Budget (OMB). This clearance pertains to any “collection of information that is conducted or sponsored by ACF.”

List organizations, cooperating entities, consultants, or other key individuals who will work on the project along with a short description of the nature of their effort or contribution.

4. Geographic Location: Describe the precise location of the project and boundaries of the area to be served by the proposed project. Maps or other graphic aids may be attached.

5. Staff and Position Data: Provide a biographical sketch for each key person appointed and a job description for each vacant key position. A biographical sketch will also be required for new key staff as appointed.

6. Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424. Provide a narrative budget justification that describes how the categorical costs are derived. Discuss the necessity, reasonableness, and allocability of the proposed costs.

Budget and Budget Justification Guidelines: The following guidelines are for preparing the budget and budget justification. Both Federal and non-Federal resources shall be detailed and justified in the budget and narrative justification. For purposes of preparing the budget and budget justification, “Federal resources” refers only to the ACF grant for which you are applying. Non-federal resources are all other Federal and non-Federal resources. It is suggested that budget amounts and computations be presented in a columnar format: first column, object class categories; second column, Federal budget; next column(s), non-Federal budget(s), and last column, total budget. The budget justification should be a narrative.

Personnel

Description: Costs of employee salaries and wages.

Justification: Identify the project director or principal investigator, if known. For each staff person, provide the title, time commitment to the project (in months), time commitment to the project (as a percentage or full-time equivalent), annual salary, grant salary, wage rates, etc. Do not include the costs of consultants or personnel costs of delegate agencies or of specific project(s) or businesses to be financed by the applicant.

Fringe Benefits

Description: Costs of employee fringe benefits unless treated as part of an approved indirect cost rate. Justification: Provide a breakdown of the amounts and percentages that comprise fringe benefit costs such as health insurance, FICA, retirement insurance, taxes, etc.

Travel

Description: Costs of project-related travel by employees of the applicant organization (does not include costs of consultant travel). Justification: For each trip, show the total number of traveler(s), travel destination, duration of trip, per diem, mileage allowances, if privately owned vehicles will be used, and other transportation costs and subsistence allowances. Travel costs for key staff to attend ACF sponsored workshops should be detailed in the budget.

Equipment

Description: “Equipment” means an article of nonexpendable, tangible personal property having a useful life of more than one year and an acquisition cost which equals or exceeds the lesser of (a) the capitalization level established by the organization for the financial statement purposes, or (b) $5,000 (Note: Acquisition cost means the net invoice unit price of an item of equipment, including the cost of any modifications, attachments, accessories, or auxiliary apparatus necessary to make it usable for the purpose for which it is acquired. Ancillary charges, such as taxes, duty, protective in-transit insurance, freight, and installation shall be included in or excluded from acquisition cost in accordance with the organization's regular written accounting practices.

Justification: For each type of equipment requested, provide a description of the equipment, the cost per unit, the number of units, the total cost, and a plan for use on the project, as well as use or disposal of the equipment after the project ends. An applicant organization that uses its own definition for equipment should provide a copy of its policy or section of its policy which includes the equipment definition.

Supplies

Description: Costs of all tangible personal property other than that included under the equipment category. Justification: Specify general categories of supplies and their costs. Show computations and provide other information which supports the amount requested.

Contractual

Description: Costs of all contracts for services and goods except for those that belong under other categories such as equipment, supplies, construction, etc. Third-party evaluation contracts (if applicable) and contracts with secondary recipient organizations, including delegate agencies and specific project(s) or businesses to be financed by the applicant, should be included under this category.

Justification: All procurement transactions shall be conducted in a manner to provide, to the maximum extent practical, open and free competition. Recipients and subrecipients, other than States that are required to use Part 92 procedures, must justify any anticipated procurement action that is expected to be awarded without competition and exceed the simplified acquisition threshold fixed at 41 U.S.C. 403(11) (currently set at $100,000). Recipients might be required to make available to ACF pre-award review and procurement documents, such as request for proposals or invitations for bids, independent cost estimates, etc.

Note: Whenever the applicant intends to delegate part of the project to another agency, the applicant must provide a detailed budget and budget narrative for each delegate agency, by agency title, along with the required supporting information referred to in these instructions.

Construction

N/A.

Other

Enter the total of all other costs. Such costs, where applicable and appropriate, may include but are not limited to insurance, food, medical and dental costs (noncontractual), professional services costs, space and equipment rentals, printing and publication, computer use, training costs, such as tuition and stipends, staff development costs, and administrative costs.

Justification: Provide computations, a narrative description and a justification for each cost under this category.

Indirect Charges

Description: Total amount of indirect costs. This category should be used only when the applicant currently has an indirect cost rate approved by the Department of Health and Human Services (HHS) or another cognizant Federal agency.

Justification: An applicant that will charge indirect costs to the grant must enclose a copy of the current rate agreement. If the applicant organization is in the process of initially developing or renegotiating a rate, it should immediately upon notification that an award will be made, develop a tentative indirect cost rate proposal based on its most recently completed fiscal year in accordance with the principles set forth in the cognizant agency's guidelines for establishing indirect cost rates, and submit it to the cognizant agency. Applicants awaiting approval of their indirect cost proposals may also request indirect costs. It should be noted that when an indirect cost rate is requested, those costs included in the indirect cost pool should not also be charged as direct costs to the grant. Also, if the applicant is requesting a rate which is less than what is allowed under the program, the authorized representative of the applicant organization must submit a signed acknowledgment that the applicant is accepting a lower rate than allowed.

Program Income

Description: The estimated amount of income, if any, expected to be generated from this project.

Justification: Describe the nature, source and anticipated use of program income in the budget or refer to the pages in the application which contain this information.

Non-Federal Resources

Description: Amounts of non-Federal resources that will be used to support the project as identified in Block 15 of the SF424.

Justification: The firm commitment of these resources must be documented and submitted with the application in order to be given credit in the review process. A detailed budget must be prepared for each funding source.

Note: In the SF424A, Section B, Budget Categories, list in column 2 non-federal resources separately from federal resources, which must be listed in column 1.

D. Competitive Review and Evaluation Criteria

Applications which pass the initial ACF pre-review screening will be evaluated and rated by an independent review panel on the basis of specific evaluation criteria. The evaluation criteria were designed to assess the quality of the proposed project and to determine the likelihood of its success. The evaluation criteria are closely related and are considered as a whole in judging the overall quality of an application. Points are awarded only to applications that are responsive to the evaluation criteria within the context of this program announcement.

Narrative sections of the application should follow the outline (headings) of the Uniform Project Description as presented above and address the criteria below.

Proposed projects will be reviewed using the following evaluation criteria:

(1) Approach: (40 points)

The application should describe in detail the proposed methods for answering the research questions proposed or otherwise carrying out the study and explain why the methods proposed are adequate to address the research questions and study objectives. The application should discuss the evidentiary basis that will be used to support a classification of approaches by faith- and community-based organizations as a “best practice” or promising approach. The application should note any weaknesses in the proposed research design and what will be done to compensate for those weaknesses. The application should discuss the type of data to be used in the study, the sources of data, the availability of and access to needed data, and any issues related to data quality and how such issues will be addressed. As a part of the proposed approach, the application should identify the key, relevant organizations that will be involved in project activity and generally describe operational relationships that exist or will be put into place among relevant organizations for the conduct of the study.

The application will be judged on the extent to which the data to be used, proposed project design (methods), and approaches to project activities are adequate and appropriate to accomplish the objectives set out within the time specified.

(2) Results or Benefits Expected: (20 points)

The application should describe who the results will benefit (e.g., various levels of government, direct service providers), how the results may benefit such individuals or organizations, and why the results would be expected to be beneficial.

The application will be judged on the extent to which the results are likely to be beneficial (e.g., provide policy or program guidance) to clearly identifiable parties (i.e., governmental agencies, direct providers).

(3) Objectives and Need for Assistance: (15 points)

The application must include the principal questions to be addressed by the study and the research hypotheses related to those questions, if appropriate, and indicate why the applicant believes the questions are important and what contribution the work will make. If the application to ACF is for funding of a particular component of a larger study, the applicant should describe the objective of the entire study and explain in detail the questions to be addressed by the activities for which ACF funding is requested.

The application will be judged on the extent to which the questions identified include important unanswered questions about the priority study areas and about which additional information is most critically needed and which will discern the best practices of charitable organizations. Applications will be judged on the relevance of the proposed work to the program objectives set out within this announcement. The application will be judged on the extent to which the proposed study will help to build the knowledge base and have wide applicability or relevance.

(4) Staff and Position Data: (10 Points)

The application should list key individuals who will work on the project along with a description of the nature of their contribution. The application should provide evidence of the key staff's experience in conducting the sort of study or research proposed and describe their relevant academic training. The application should also describe the organizational support that will be available to carry out the work proposed.

The application will be judged on the extent to which proposed staff has relevant experience and expertise for carrying out the overall work proposed and for conducting the specific activities or types of analysis to be assigned to them. The application will be judged on the appropriateness of the management plan to ensure that the work is accomplished as proposed and on schedule.

(5) Budget and Budget Justification: (10 points)

The application must include a narrative description and justification for proposed budget line items (as described in the detailed budget instructions included above) and demonstrate that the project's costs are adequate, reasonable and necessary for the activities or personnel to be supported. The application will be judged on the extent to which the budget is necessary and reasonable for the proposed set of activities.

(Applicants should refer to the budget information presented in the Standard Forms 424 and 424A and to the budget justification instructions in section C. General Instructions for the Uniform Project Description. Since non-Federal reviewers will be used in the review of applications, applicants may omit from the copies of the application submitted (not from the original), the specific salary rates or amounts for individuals in the application budget and instead provide only summary information. )

(6) Geographic Location: (5 points)

The application should include a brief discussion of the geographic location relevant to the study proposed. The application will be judged on the extent to which the geographic area proposed is reasonable given the proposed study approach.

E. The Review Process

Applications received by the due date will be reviewed and scored competitively. Experts in the subject and technical areas will use the evaluation criteria listed in Part III of this announcement to review and score the applications. The results of this review are a primary factor in making funding decisions. ACF may also solicit comments from Regional Office staff and other Federal agencies. The Assistant Secretary may also consider a variety of factors in funding decisions, including variation in geographic regions of study, type of applicant organization, or approaches or data sources for the studies.

Please note that applicants that do not comply with the requirements in the section on “Eligible Applicants” will not be included in the review process.

Part IV. The Application Process

A. Required Forms

Eligible applicants interested in applying for funds must submit a complete application including the required forms. All necessary forms are available at: http://www.acf.dhhs.gov/programs/ofs/forms.htm.

In order to be considered for a grant under this announcement, an application must be submitted on the Standard Form 424 approved by the Office of Management and Budget under Control Number 0348-0043. A copy has been provided. Each application must be signed by an individual authorized to act for the applicant and to assume responsibility for the obligations imposed by the terms and conditions of the grant award. Applicants requesting financial assistance for non-construction projects must file the Standard Form 424B, Assurances: Non-Construction Programs (approved by the Office of Management and Budget under control number 0348-0040). Applicants must sign and return the Standard Form 424B with their application.

Applicants must provide a certification concerning lobbying. Prior to receiving an award in excess of $100,000, applicants shall furnish an executed copy of the lobbying certification (approved by the Office of Management and Budget under control number 0348-0046). Applicants must sign and return the certification with their application.

Applicants must make the appropriate certification of their compliance with the Drug-Free Workplace Act of 1988. By signing and submitting the application, applicants are providing the certification and need not mail back the certification with the application.

Applicants must make the appropriate certification that they are not presently debarred, suspended or otherwise ineligible for award. By signing and submitting the application, applicants are providing the certification and need not mail back the certification with the application.

B. Application Limits

The application should be double-spaced and single-sided on 8 ½″ × 11″ plain white paper, with 1″ margins on all sides. Use only a standard size font no smaller than 12 pitch throughout the application. All pages of the application (including appendices, resumes, charts, references/footnotes, tables, maps and exhibits) must be sequentially numbered, beginning on the first page after the budget justification, the principal investigator contact information and the Table of Contents. Although there is no limitation regarding number of pages, applicants are urged to be concise and limit applications to no more than 25 pages. Applicants are requested not to send pamphlets, brochures, or other printed material along with their applications as these pose copying difficulties. These materials, if submitted, will not be included in the review process. In addition, applicants must not submit any additional letters of endorsement beyond any that may be required. Applicants are encouraged to submit curriculum vitae in a biographical format.

C. Checklist for a Complete Application

The checklist below is for your use to ensure that the application package has been properly prepared.

—One original, signed and dated application plus two copies.

—Attachments/Appendices, when included, should be used only to provide supporting documentation such as resumes, and letters of agreement/support.

(1) Application for Federal Assistance (SF-424, Rev. 7-97)

(2) Budget information-non-construction programs (SF424A&B)

(3) Budget Justification, including subcontract agency budgets

(4) Application Narrative and Appendices

(5) Assurances Non-Construction Program

(6) Certification Regarding Lobbying

(7) If appropriate, a completed SPOC certification with the date of SPOC contact entered in line 16, page 1 of the SF-424, REV. 7-97

D. Closing Date for Receipt of Applications

The closing (deadline) time and date for receipt of applications is 4:30 p.m. (Eastern Time Zone) on the date indicated under DATES at the beginning of this announcement. Applications received after 4:30 p.m. will be classified as late.

Deadline: Mailed applications shall be considered as meeting an announced deadline if they are received on or before the deadline time and date at: OCS Operations Center, 1815 North Fort Myer Drive, Suite 300, Arlington, Virginia 22202 and labeled: Application for Research Under the Compassion Capital Fund. Applicants are responsible for mailing applications well in advance, when using all mail services, to ensure that the applications are received on or before the deadline time and date.

Applications handcarried by applicants, applicant couriers, or other representatives of the applicant or by overnight/express mail couriers shall be considered as meeting an announced deadline if they are received on or before the deadline date, between the hours of 8 a.m. and 4:30 p.m. at: OCS Operations Center, 1815 North Fort Myer Drive, Suite 300, Arlington, Virginia 22202 and labeled: Application for Research Under the Compassion Capital Fund. Applicants are cautioned that express/overnight mail services may not always deliver as agreed.

ACF cannot accommodate the transmission of applications by FAX or through other electronic media. Therefore, applications transmitted to ACF electronically will not be accepted regardless of date or time of submission and time of receipt.

Late applications: Applications that do not meet the criteria stated above are considered late applications. ACF will notify each late applicant that its application will not be considered in the current competition.

Extension of deadlines: ACF may extend an application deadline for applicants affected by acts of God such as floods and hurricanes, when there is widespread disruption of mail service, or for other disruptions of services, such as a prolonged blackout, that affect the public at large. A determination to waive or extend deadline requirements rests with the Chief Grants Management Officer.

E. Paperwork Reduction Act of 1995

Under the Paperwork Reduction Act of 1995, Public Law 104-13, the Department is required to submit to OMB for review and approval any reporting and record keeping requirements in regulations including program announcements. All information collections within this program announcement are approved under the following current valid OMB control numbers 0348-0043, 0348-0044, 034800040, 0348-0046, 0925-0418 and 0970-0139.

Public reporting burden for this collection is estimated 10 hours per response, including the time for reviewing instructions, gathering and maintaining the data needed and reviewing the collection of information.

An agency may not conduct or sponsor and a person is not required to respond to, a collection of information unless it displays a currently valid OMB control number.

Dated: May 31, 2002.
Wade F. Horn,
Assistant Secretary for Children & Families.

[FR Doc. 02-14318 Filed 6-6-02; 8:45 am]

BILLING CODE 4184-01-P